DEPARTMENT OF LABOR

Employment and Training Administration

Proposed Information Collection Request Submitted for Public Comment and Recommendations; Survey of the Costs to Employers To Expand the Quarterly Unemployment Insurance Wage Report

ACTION: Notice.

SUMMARY: The Department of Labor as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed survey of costs to employers if modifications were made to their state unemployment insurance quarterly wage reports. The changes involve expanding the employee name fields and adding three additional labor market information (LMI) elements. A similar study of costs, which would be incurred by State Workforce Agencies (SWAs), has recently been completed (OMB Control No. 1205-0419, expired 12/31/2001) (See Federal Register/Vol. 64, No. 60/Tuesday, March 30, 1999/Notices, page 15179, for the original announcement of the survey). A copy of the proposed information collection request (IRC) can be obtained by contacting the office listed below in the addressee section of this notice.

DATES: Written comments must be submitted to the office listed in the addressee section below on or before September 9, 2002.

ADDRESSES: Bill Whitt, Office of Income Support, Employment and Training Administration, Department of Labor, Room S4231, 200 Constitution Ave, NW., Washington, DC 20210; (202) 693-3219 (this is not a toll-free number), Fax 202-693-3229, E-mail bwhitt@doleta.gov.

SUPPLEMENTARY INFORMATION:

I. Background

SWAs collect and maintain quarterly wage record information from employers for purposes of administering state unemployment insurance programs; among other things, the information includes employee name, social security number (SSN), quarterly wages and employer identification number. Federal law requires that a number of state and federal agencies use UI quarterly wage record information in certain program operations. In addition, wage records are provided by the SWAs to the National Directory of New Hires (NDNH), a database primarily used for child support enforcement purposes.

The Social Security Administration (SSA) maintains the NDNH on behalf of the Department of Health and Human Services (HHS). Part of SSA's responsibility is to verify the name and social security number of individuals and the employer identification numbers on the UI wage records provided to the NDNH. This verification involves matching SSA name/SSN information against the UI wage records. However, a lack of standardization among SWAs in the reporting of such information makes verification difficult and diminishes the usefulness of the information in the NDNH. SSA has established a standard for reporting and storage of the name field for W-2 purposes and HHS suggests that implementation of the same standard for UI wage records would be beneficial to the NDNH, the UI agencies and other users of wage records. Effective use of such a standard by the UI agencies may improve the utility of wage record data now being used for detection and collection of unemployment insurance overpayments.

A change in the name field requirements may be costly for some employers to implement. Therefore, ETA is interested in gathering estimates from employers of the costs that they expect to incur if they were to adopt the new standard.

In addition to name field standardization, some groups have expressed interest in LMI, such as quarterly hours paid, weeks worked and the zip code designating the location of jobs, that is not currently available from most SWA's UI tax and wage records or from other sources. Wage data currently received are utilized for a number of government programs as well as for research purposes. For example, under the Workforce Investment Act, states use data from the wage records to evaluate the outcomes of job training programs and services and to gather LMI. The additional wage record data elements could enhance the measurement of performance of such programs.

Gaining some knowledge of the potential cost of reporting the additional information will help the ETA in making future decisions on whether to encourage SWAs to ask employers for this information. A survey form, which shows the standards for the suggested changes, has been developed to assist employers in estimating their costs for compliance with the suggested changes.

II. Review Focus

The Department of Labor is particularly interested in comments which:

• Evaluate whether the proposed collection of information is necessary for the proper performance of the functions of the agency, including whether the information will have practical utility;

• Evaluate the accuracy of ETA's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submission of responses.

III. Current Actions

To examine the potential cost to employers, the ETA is planning to collect survey data from random samples of employers in the United States. The survey will collect information on how (1) employers currently submit UI tax and wage records, current costs associated with quarterly reporting, estimated costs for the initial change to accommodate expanded name fields and the additional labor market elements, and the on-going annual costs to employers for these changes; (2) the changes may impact employer staff costs and information technology costs; and (3) easily employers believe the changes can be implemented. As a supplement to the survey, a small number of employers will be asked to participate in case studies regarding similar, but more detailed questions in relation to possible costs associated with adding wage record elements.

Type of Review: New.

Agency: Employment and Training Administration.

Title: Survey of the Costs to Employers to Expand the Quarterly Unemployment Insurance Tax Report.

Affected Public: Employers.

Total Respondents: Sample of employers, approximately 1600 for survey; 12 for case studies.

Frequency: One time only.

Total Responses: 1,612.

Cite/reference | Total respondents | Frequency | Total responses | Average time per response (minutes) | Burden (hours)
Survey | 1600 | One time | 1600 | 30 | 800
Case Studies | 12 | One time | 12 | 90 | 18
Totals |  |  | 1612 |  | 818

Total Burden Cost (capital/startup): $0.00.

Total Burden Cost (operating/maintaining): $0.00.

Comments submitted in response to this notice will be summarized and/or included in the request for OMB approval of the information collection request; they will also become a matter of public record.

Dated: July 5, 2002.
Grace A. Kilbane,
Administrator, Office of Workforce Security.

[FR Doc. 02-17447 Filed 7-10-02; 8:45 am]

BILLING CODE 4510-30-P